DEPARTMENT OF THE INTERIOR

National Park Service

[NPS-WASO-NAGPRA-NPS0037471; PPWOCRADN0-PCU00RP14.R50000]

Notice of Inventory Completion: Fort Lewis College, Durango, CO

AGENCY: National Park Service, Interior.

ACTION: Notice.

SUMMARY: In accordance with the Native American Graves Protection and Repatriation Act (NAGPRA), Fort Lewis College has completed an inventory of human remains and has determined that there is a cultural affiliation between the human remains and Indian Tribes or Native Hawaiian organizations in this notice. The human remains were removed from La Plata County and Montezuma County, CO.

DATES: Repatriation of the human remains in this notice may occur on or after March 29, 2024.

ADDRESSES: Amy Cao, Fort Lewis College, 1000 Rim Drive, Durango, CO 81301, telephone (970) 247-7030, email arcao@fortlewis.edu.

SUPPLEMENTARY INFORMATION: This notice is published as part of the National Park Service's administrative responsibilities under NAGPRA. The determinations in this notice are the sole responsibility of Fort Lewis College. The National Park Service is not responsible for the determinations in this notice. Additional information on the determinations in this notice, including the results of consultation, can be found in the inventory or related records held by Fort Lewis College.

Description

In 1978 and 1979, human remains representing, at minimum, 21 individuals were removed from site 5LP 117 (also referred to as 5LP 138), in La Plata County, CO. These were recovered during survey and salvage excavations conducted on private land in the Bodo Industrial Park south of Durango along the Animas River under the direction of Dr. Susan Riches as part of Fort Lewis College summer field school classes. The 1978 excavation was assigned site number 5LP 117 and initially, the 1979 excavations were assigned 5LP 138, however, according to documentation, Dr. Riches concluded that this was a continuation of the 5LP 117 site. Bags, labels, and other documentation may list 5LP 138, but this all refers to the 1979 summer excavations of site 5LP 117. No associated funerary objects are present. Based on the artifactual evidence, this site is designated as Ancestral Pueblo from the Pueblo I period (A.D. 700-840) (Charles, MC, 1996. “The Emergency Excavations of Three Human Burials in Bodo Industrial Ranches, La Plata County, CO”).

Between 1984 and 1997, human remains representing, at minimum, nine individuals were removed from site 5MT 4802 (the Pigg site), in Montezuma County, CO, under the direction of Jim Judge as part of Fort Lewis College field school classes. No associated funerary objects are present. Based on architectural and artifactual evidence, this site is designated as Ancestral Pueblo from the Pueblo II/III period (A.D. 1150-1250).

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, folklore, geographical information, historical information, kinship, linguistics, oral tradition, as well as expert opinion.

Determinations

Pursuant to NAGPRA and its implementing regulations, and after consultation with the appropriate Indian Tribes and Native Hawaiian organizations, Fort Lewis College has determined that:

• The human remains described in this notice represent the physical remains of 30 individuals of Native American ancestry.

• There is a relationship of shared group identity that can be reasonably traced between the human remains and associated funerary objects described in this notice and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 29, 2024. If competing requests for repatriation are received, Fort Lewis College must determine the most appropriate requestor prior to repatriation. Requests for joint repatriation of the human remains are considered a single request and not competing requests. Fort Lewis College is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04086 Filed 2-27-24; 8:45 am]

BILLING CODE 4312-52-P